COMMISSION ON CIVIL RIGHTS

Sunshine Act Meeting Notice

AGENCY: United States Commission on Civil Rights.

ACTION: Notice of Commission Business Meeting.

DATES: Date and Time: Friday, August 14, 2015; 10:00 a.m. EST.

ADDRESSES: Place: 1331 Pennsylvania Ave. NW., Suite 1150, Washington, DC.

FOR FURTHER INFORMATION CONTACT: Lenore Ostrowsky, Acting Chief, Public Affairs Unit (202) 376-8591.

Hearing-impaired persons who will attend the briefing and require the services of a sign language interpreter should contact Pamela Dunston at (202) 376-8105 or at signlanguage@usccr.gov at least seven business days before the scheduled date of the meeting.

SUPPLEMENTARY INFORMATION:

Meeting Agenda

This meeting is open to the public.

I. Approval of Agenda

II. Program Planning

• Budget Status

• OCRE Contractor Update

• Discussion and vote on 2015 Statutory Enforcement Report on The State of Civil Rights at Immigration Detention Facilities, Part A and B

• Discussion and vote on part A of Peaceful Coexistence report

• Discussion and vote on two topics for 2016 Commission reports

• Discussion and vote on dates for Future Commission Business Meetings

III. Management and Operations

• Staff Director Report

• Reports by SAC Chairs for Nevada and Illinois

IV. State Advisory Committee (SAC) Appointments

• Illinois

• Maryland

• South Dakota

• Tennessee

• Wisconsin

V. Adjourn Meeting

Dated: August 4, 2015.
David Mussatt,
Chief, Regional Programs Unit, U.S. Commission on Civil Rights.

[FR Doc. 2015-19541 Filed 8-5-15; 11:15 am]

BILLING CODE P